DEPARTMENT OF COMMERCE

International Trade Administration

A-570-904

Certain Activated Carbon From the People's Republic of China: Notice of Partial Rescission of Antidumping Duty Administrative Review

AGENCY: Import Administration, International Trade Administration, Department of Commerce.

EFFECTIVE DATE: July 22, 2008.

FOR FURTHER INFORMATION CONTACT: Catherine Bertrand, AD/CVD Operations, Office 9, Import Administration, International Trade Administration, U.S. Department of Commerce, 14th Street and Constitution Avenue, NW, Washington DC 20230; telephone (202) 482-3207.

SUPPLEMENTARY INFORMATION:

Background

On June 4, 2008, the Department of Commerce (the “Department”) published a notice of initiation of an administrative review of the antidumping duty order on certain activated carbon from the People's Republic of China (“PRC”) covering the period October 11, 2006 March 31, 2008. See Initiation of Antidumping and Countervailing Duty Administrative Reviews and Requests for Revocation in Part, 73 FR 31813 (June 4, 2008) (“Initiation”).

On June 26, 2008, Calgon Carbon Corporation and Norit Americas Inc. (the “Petitioners”) withdrew their request for an administrative review for the following 57 companies: Actview Carbon Technology Co., Ltd.; Alashan Yongtai Activated Carbon Co., Ltd.; Beijing Hibridge Trading Co., Ltd.; Changji Hongke Activated Carbon Co., Ltd.; China Nuclear Ningxia Activated Carbon Plant; Da Neng Zheng Da Activated Carbon Co., Ltd.; Datong Carbon Corporation, Datong Changtai Activated Carbon Co., Ltd.; Datong City Zuoyun County Activated Carbon Co., Ltd.; Datong Fu Ping Activated Carbon Co., Ltd.; Datong Fuping Activated Carbon Co., Ltd.; Datong Guanghua Activated Co., Ltd.; Datong Huanqing Activated Carbon Co., Ltd.; Datong Huiyuan Cooperative Activated Carbon Plant; Datong Kangda Activated Carbon Factory; Datong Runmei Activated Carbon Factory; Datong Tianzhao Activated Carbon Co., Ltd.; DaTong Tri-Star & Power Carbon Plant Ltd.; Datong Weidu Activated Carbon Co., Ltd.; Datong Zuoyun Biyun Activated Carbon Co., Ltd.; Dushanzi Chemical Factory; Fangyuan Carbonization Co., Ltd.; Fu Yuan Activated Carbon Co., Ltd.; Hegongye Ninxia Activated Carbon Factory; Hongke Activated Carbon Co., Ltd.; Jiaocheng Xinxin Purification Material Co., Ltd.; Jing Mao (Dongguan) Activated Carbon Co., Ltd.; Ningxia Baota Activated Carbon Co., Ltd.; Ningxia Fengyuan Activated Carbon Co., Ltd.; Ningxia Guanghua Activated Carbon Co., Ltd.; Ningxia Guanghua Chemical Activated Carbon Co., Ltd.; Ningxia Haoqing Activated Carbon Co., Ltd.; Ningxia Honghua Carbon Industrial Corporation; Ningxia Huinong Xingsheng Activated Carbon Co., Ltd.; Ningxia Luyuangheng Activated Carbon Co., Ltd.; Ningxia Pingluo County YaoFu Activated Carbon Factory; Ningxia Pingluo County Yaofu Activated Carbon Plant; Ningxia Pingluo Xuanzhong Activated Carbon Co., Ltd.; Ningxia Pingluo Yaofu Activated Carbon Factory; Ningxia Tianfu Activated Carbon Co., Ltd.; Ningxia Xingsheng Coal and Active Carbon Co., Ltd.; Ningxia Yinchuan Lanqiya Activated Carbon Co., Ltd.; Ningxia Yirong Alloy Iron Co., Ltd.; Ninxia Tongfu Coking Co., Ltd.; Pingluo Xuanzhong Activated Carbon Co., Ltd.; Shanxi Bluesky Purification Material Co., Ltd.; Shanxi Qixian Foreign Trade Corporation; Shanxi Xiaoyi Huanyu Chemicals Co., Ltd.; Shanxi Xinhua Activated Carbon Co., Ltd.; Shanxi Xuanzhong Chemical Industry Co., Ltd.; Tonghua Bright Future Activated Carbon Plant; Tonghua Xinpeng Activated Carbon Factory; Xi Li Activated Carbon Co., Ltd.; Xi'an Shuntong International Trade & Industrials Co., Ltd.; Xinhua Chemical Company Ltd.; Yinchuan Lanqiya Activated Carbon Co., Ltd.; and, Yuyang Activated Carbon Co., Ltd. The Petitioners were the only party to request a review of these companies.

Partial Rescission

Pursuant to 19 CFR 351.213(d)(1), the Secretary will rescind an administrative review, in whole or in part, if a party who requested the review withdraws the request within 90 days of the date of publication of notice of initiation of the requested review. The Petitioners' request has fallen within the 90-day period, and thus, is timely. Because the Petitioners' withdrawal of requests for review is timely and because no other party requested a review of the aforementioned companies, in accordance with 19 CFR 351.213(d)(1), we are rescinding this review with respect to the above listed companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 16, 2008.
Stephen J. Claeys,
Deputy Assistant Secretary for Import Administration.

[FR Doc. E8-16765 Filed 7-21-04; 8:45 am]

BILLING CODE 3510-DS-S